DEPARTMENT OF HOUSING AND URBAN DEVELOPMENT

[Docket No. FR-5800-N-04]

Notice of HUD's Funding Availability for Fiscal Year 2014 Lead-Based Paint Hazard Control Grant Program and Lead Hazard Reduction Demonstration Grant Program

AGENCY: Office of Lead Hazard and Healthy Homes, Department of Housing and Urban Development (HUD).

ACTION: Notice of Funding Availability (NOFA).

SUMMARY: This notice announces that HUD has posted on http://www.Grants.gov and http://www.HUD.gov its Lead-Based Paint Hazard Control (LBPHC) Grant Program and Lead Hazard Reduction Demonstration (LHRD) Grant Program. The Lead-Based Paint Hazard Control (LBPHC) Grant Program and Lead Hazard Reduction Demonstration (LHRD) Grant Program NOFA is comprised of both the General Section to the Department's FY 2014 NOFAs for Discretionary Programs (General Section) published February 19, 2014 and this NOFA. In addition to the application requirements set forth in the NOFA, applicants must also comply with the requirements established in the General Section, and all Lead-Based Paint Hazard Control (LBPHC) Grant Program and Lead Hazard Reduction Demonstration (LHRD) Grant Program requirements. This NOFA announces the availability of funding of approximately $104,000,000 million. The overarching purpose of the Lead-Based Paint Hazard Control Grant Program and the Lead Hazard Reduction Demonstration Grant Program is to assist states, cities, counties/parishes, Native American Tribes or other units of local government in undertaking comprehensive programs to identify and control lead-based paint hazards in eligible privately owned rental or owner-occupied housing; the Lead Hazard Reduction Demonstration Grant Program is targeted to urban jurisdictions with the greatest lead-based paint hazard control needs. The Healthy Homes Supplemental Funding is being offered to assist those units eligible for use of lead funds to utilize the Healthy Homes Rating System for assessing, prioritizing and remediating other health and safety issues within those eligible units.

FOR FURTHER INFORMATION CONTACT: For programmatic questions, you may contact: Michelle Miller, Director, Programs Division, Office of Healthy Homes and Lead Hazard Control: Department of Housing and Urban Development; 451 Seventh Street SW., Room 8236, Washington, DC 20410-3000; telephone 202-402-5769 (this is not a toll-free number); facsimile 202-755-1000; or email Michelle.M.Miller@hud.gov.

For administrative questions, you may contact Nadine L. Heath, Director, Grants Services Division, at the address above or by telephone at 202-402-7680 (this is not a toll-free number); facsimile 202-755-1000; or email Nadine.L.Heath@hud.gov.

SUPPLEMENTARY INFORMATION: Today's Federal Register notice announces that HUD has posted its FY Lead-Based Paint Hazard Control (LBPHC) Grant Program and Lead Hazard Reduction Demonstration (LHRD) Grant Program NOFA on http://www.Grants.gov and http://portal.hud.gov/hudportal/HUD?src=/program_offices/administration/grants/fundsavail.

The application deadline date is June 27, 2014. Applications must be received by Grants.gov no later than 11:59:59 p.m. Eastern Time on the application deadline date. See Section IV of the General Section, regarding application procedures, timely filing requirements, and grace period policy. HUD may issue a technical correction to this NOFA if necessary. Any such technical correction will provide detailed instructions for Applicants regarding the resubmission of applications to address the revised NOFA requirements.

Dated: May 15, 2014.
Anne M. Morillon,
Director, Grants Management and Oversight Division, Office of Strategic Planning and Management.

[FR Doc. 2014-12029 Filed 5-22-14; 8:45 am]

BILLING CODE 4210-67-P